DEPARTMENT OF AGRICULTURE

Food and Nutrition Service

Agency Information Collection Activities: Proposed Collection; Comment Request—National School Lunch Program and School Breakfast Program: School Food Safety Inspections

AGENCY: Food and Nutrition Service, USDA.

ACTION: Notice.

SUMMARY: In accordance with the Paperwork Reduction Act of 1995, this notice invites the general public to comment on proposed information collection related to the National School Lunch Program (NSLP), including adjustments to be made as a result of the interim rule, School Food Safety Inspections.

DATES: To be assured of consideration, comments must be received by July 11, 2005.

ADDRESSES: Send comments and requests for copies of this information collection to: Mr. Robert Eadie, Policy and Program Development Branch, Child Nutrition Division, Food and Nutrition Service, U.S. Department of Agriculture, 3101 Park Center Drive, Room 640, Alexandria, Virginia 22302. Comments will also be accepted via E-Mail submission if sent to cndproposal@fns.usda.gov. When submitting comments via E-mail you must include “School Food Safety Inspections” on the subject line.

Comments are invited on (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

All responses to this Notice will be summarized and included in the request for OMB approval, and will become a matter of public record.

FOR FURTHER INFORMATION CONTACT: Todd J. Barrett, Acting Section Chief, School Programs Section, Policy and Program Development Branch, Child Nutrition Division, Food and Nutrition Service at (703) 305-2590.

SUPPLEMENTARY INFORMATION: Title: National School Lunch Program Regulations.

OMB Number: 0584-0006.

Expiration Date: 07/31/2007.

Type of Request: Revision of a currently approved collection.

Abstract: The interim rule entitled, “National School Lunch Program and School Breakfast Program: School Food Safety Inspections” will amend the NSLP and School Breakfast Program (SBP) regulations to implement Section 111 of the Child Nutrition and WIC Reauthorization Act of 2004, Public Law 108-265 which amended Section 9(h) of the Richard B. Russell National School Lunch Act (42 U.S.C. 1758). Specifically, Section 111 of Public Law 108-265 increases the number of mandatory food safety inspections for schools participating in the NSLP or SBP from one to two per year; requires schools to post the most recent inspection report in a visible location and to release a copy of the report to the public upon request; and requires States to annually audit the school food safety inspections and to submit the results to the Food and Nutrition Service for each of fiscal years 2006 through 2009.

Estimate of Burden: The school food safety inspection provisions of the interim rule entitled, “National School Lunch Program and School Breakfast Program: School Food Safety Inspections,” apply to schools participating in at least one of the programs. Schools that participate in the SBP also participate in the NSLP. Therefore, the entire information collection burden for the school food safety inspection provisions will be contained in the information collection for NSLP, OMB-0584-0006, even though the provisions pertain to both the NSLP and SBP. The current inventory for this collection is 10,448,411 burden hours. When the interim rule entitled, “National School Lunch Program and School Breakfast Program: School Food Safety Inspections” is published and the burden package is approved, the reporting burden will increase by 10,468 hours and the recordkeeping burden will increase by 21,960 hours. The total increase in burden for NSLP, OMB-0584-0006 will be 32,428 hours; for a total of 1,307,886 reporting hours and 9,172,953 recordkeeping hours.

Reporting—1,307,886 hours.

Number of Respondents: 121,426 respondents.

Average Number of Responses per Respondent: 11 responses.

Estimated Total Annual Responses: 2,416,242.

Estimated Time per Response: .54 hours/response.

Recordkeeping—9,172,953 hours.

Number of Respondents: 121,426 respondents.

Average Number of Responses per Respondent: 16 responses.

Estimated Total Annual Responses: 29,385,463.

Estimated Time per Response: .31.

Dated: April 26, 2005.
Roberto Salazar,
Administrator, Food and Nutrition Service.

[FR Doc. 05-9450 Filed 5-11-05; 8:45 am]

BILLING CODE 3410-30-P